Title 3—

The President

Proclamation 8005 of April 20, 2006

Jewish American Heritage Month, 2006

By the President of the United States of America

A Proclamation

When the first Jewish settlers came to this land, they sought a place of promise where they could practice their faith in freedom and live in liberty. During Jewish American Heritage Month, we celebrate the rich history of the Jewish people in America and honor the great contributions they have made to our country.

As a nation of immigrants, the United States is better and stronger because Jewish people from all over the world have chosen to become American citizens. Since arriving in 1654, Jewish Americans have achieved great success, strengthened our country, and helped shape our way of life. Through their deep commitment to faith, family, and community, Jewish Americans remind us of a basic belief that guided the founding of this Nation: that there is an Almighty who watches over the affairs of men and values every life. The Jewish people have enriched our culture and contributed to a more compassionate and hopeful America.

Jewish American Heritage Month is also an opportunity to remember and thank the many Jewish Americans who defend our ideals as members of the United States Armed Forces. These courageous men and women risk their lives to protect their fellow citizens and to advance the cause of freedom. By helping to bring the promise of liberty to millions around the world, they lay the foundation of peace for generations to come.

NOW, THEREFORE, I GEORGE W. BUSH, President of the United States of America, by virtue of the authority vested in me by the Constitution and laws of the United States, do hereby proclaim May 2006 as Jewish American Heritage Month. I call upon all Americans to observe this month with appropriate programs and activities that honor the significant contributions Jewish Americans have made to our Nation.

IN WITNESS WHEREOF, I have hereunto set my hand this twentieth day of April, in the year of our Lord two thousand six, and of the Independence of the United States of America the two hundred and thirtieth.

B

[FR Doc. 06-3974

Filed 4-24-06; 9:07 am]

Billing code 3195-01-P